Title 3—

The President

Proclamation 10416 of June 14, 2022

World Elder Abuse Awareness Day, 2022

By the President of the United States of America

A Proclamation

It is more vital than ever that we ensure our older adults can age with the dignity, security, and appreciation that every person deserves. Honoring and respecting older Americans is a matter of basic human dignity and justice—it is part of the character of our Nation. Yet every year, many Americans aged 60 and older experience abuse and neglect. On World Elder Abuse Awareness Day, we join the international community to raise awareness and help end elder abuse here at home and across the world.

Elder abuse takes many forms, such as financial, emotional, physical, and sexual harm, including intimate partner violence in later life. It often comes in the form of neglect, abandonment, or exploitation. It is estimated that approximately 1 in 10 elderly Americans are abused annually. However, many of those who are abused suffer in silence, and many cases are never reported or brought to light. In the past few years, while the pandemic isolated all of us to different extents, it especially exacerbated the isolation felt by too many older adults. All of us have a role to play in preventing elder abuse and ensuring that our Nation's seniors are able to age with dignity. With a majority of elder abuse victims being women, my Administration is focused particularly on improving our support for all women and preventing and addressing gender-based violence that impacts older adults both domestically and abroad.

We must remain steadfast in our commitment to preventing elder abuse. My Administration allotted $178 million through the American Rescue Plan and the COVID-19 recovery bill to improve and strengthen the work of Adult Protective Services (APS). Additionally, my budget proposal for 2023 would provide ongoing support for APS and State Long-Term Care Ombudsman programs. Our comprehensive, collaborative efforts to respond to elder abuse, neglect, and exploitation include initiatives to reform guardianship, support adult decision-making, crack down on scammers and fraudsters, and empower victims of exploitation. Our commitment to supporting survivors of all ages is reflected in the reauthorization of the Violence Against Women Act, which includes dedicated Federal funds to support survivor service providers, law enforcement, and prosecutors working to respond to domestic and sexual violence experienced by older adults.

As we continue to build a better America, we must ensure that we bring everyone along. That is why my Administration is committed to safeguarding the rights of those who live in retirement and shared residential settings. I have called on the Congress to deliver significant reforms to improve the safety and quality of care in our Nation's nursing homes. Recognizing the critical work of caregivers, I have also proposed measures to create a strong and well-compensated caregiving workforce to advance the well-being of our Nation's older adults. By ensuring a high quality of life and care for older Americans, we can support every community and honor the dignity of every person.

On this World Elder Abuse Awareness Day, let us recommit to delivering all older Americans the promise of a comfortable and peaceful life with dignity. Let us reaffirm our commitment to a world free from the scourge of abuse and neglect. Let us join the world in celebrating the essential role older adults play in our lives.

NOW, THEREFORE, I, JOSEPH R. BIDEN JR., President of the United States of America, by virtue of the authority vested in me by the Constitution and the laws of the United States, do hereby proclaim June 15, 2022, as World Elder Abuse Awareness Day. I encourage all Americans to be diligent, work together to strengthen existing partnerships, and develop new opportunities to improve our Nation's prevention and response to elder abuse, neglect, and exploitation.

IN WITNESS WHEREOF, I have hereunto set my hand this fourteenth day of June, in the year of our Lord two thousand twenty-two, and of the Independence of the United States of America the two hundred and forty-sixth.

[FR Doc. 2022-13215

Filed 6-16-22; 8:45 am]

Billing code 3395-F2-P